DEPARTMENT OF ENERGY

Federal Energy Regulatory Commission

[Docket No. AD07-5-000]

Seismic Design Guidelines for LNG Facilities; Notice of Availability of “Draft Seismic Design Guidelines and Data Submittal Requirements for LNG Facilities” and Request for Comments

January 23, 2007.

The Federal Energy Regulatory Commission's Office of Energy Projects has updated its prior guidelines and is making available for public comment a document entitled “Seismic Design Guidelines and Data Submittal Requirements for LNG Facilities”. These draft guidelines apply to all proposed new LNG facilities and proposed significant changes to existing LNG facilities under the jurisdiction of the Federal Energy Regulatory Commission. The new guidelines update, replace and supersede “Data Requirements for the Seismic Review of LNG Facilities, NBSIR 84-2833” (18 CFR 380.12(h)(5) and (o)(15)).

Federal regulations applicable to seismic design of LNG facilities are identified and summarized, and guidance is provided in a number of areas that may be subject to interpretation by technical experts. The guidelines provide a basis for uniform reviews of various LNG terminal structures, components and systems under FERC jurisdiction.

This guidance is intended for those facilities to be constructed on land and is not intended for floating or offshore facilities. The scope of the guidelines includes all portions of the facility located within the facility security fence including loading docks.

The document may be downloaded from the FERC Web site at: http://www.ferc.gov/industries/lng.asp. A limited number of paper copies are available from the Commission's Public Reference Room, or by contacting the FERC Project Manager identified below.

Comments on this draft version of the guidelines are requested by March 9, 2007, and will be considered in preparation of the final document. Please submit your comments electronically if possible by visiting the Commission's Web site at http://www.ferc.gov; look under the “e-Filing” link and the link to User's Guide. Before you can file comments electronically you will need to create a free account which can be done on-line. Comments may also be submitted in writing to: Secretary, Federal Energy Regulatory Commission, 888 First Street, NE., Washington, DC 20426. Please be sure to identify Docket No. AD07-5-000 in your filing. Questions may be directed to Lonnie Lister, Program Manager, at 202-502-8587, or by e-mail (lonnie.lister@ferc.gov).

Depending upon the nature and extent of comments, upon closure of the comment period, if necessary, FERC Staff may prepare a comment response summary to be made available to the public when the final guidelines are issued.

Magalie R. Salas,
Secretary.

[FR Doc. E7-1374 Filed 1-29-07; 8:45 am]

BILLING CODE 6717-01-P